DEPARTMENT OF ENERGY

Federal Energy Regulatory Commission

Combined Notice of Filings

Take notice that the Commission has received the following Natural Gas Pipeline Rate and Refund Report filings:

Filings Instituting Proceedings

Docket Numbers: RP18-1005-000.

Applicants: Gulf South Pipeline Company, LP.

Description: § 4(d) Rate Filing: Neg Rate Agmt and Cap Rel Agmt w/Neg Rate Provisions (So 49811, Emera 49884) to be effective 8/1/2018.

Filed Date: 7/31/18.

Accession Number: 20180731-5010.

Comments Due: 5 p.m. ET 8/13/18.

Docket Numbers: RP18-1006-000.

Applicants: Gulf South Pipeline Company, LP.

Description: § 4(d) Rate Filing: Cap Rel Neg Rate Agmts (Petrohawk 41455 releases eff 8-1-2018) to be effective 8/1/2018.

Filed Date: 7/31/18.

Accession Number: 20180731-5012.

Comments Due: 5 p.m. ET 8/13/18.

Docket Numbers: RP18-1007-000.

Applicants: Gulf South Pipeline Company, LP.

Description: § 4(d) Rate Filing: Remove Expired Agmts from Tariff Effective 8/1/2018 to be effective 8/1/2018.

Filed Date: 7/31/18.

Accession Number: 20180731-5013.

Comments Due: 5 p.m. ET 8/13/18.

Docket Numbers: RP18-1008-000.

Applicants: Gulf South Pipeline Company, LP.

Description: § 4(d) Rate Filing: Cap Rel Neg Rate Agmts (Atlanta Gas 8438 to various shippers eff 8-1-2018) to be effective 8/1/2018.

Filed Date: 7/31/18.

Accession Number: 20180731-5014.

Comments Due: 5 p.m. ET 8/13/18.

Docket Numbers: RP18-1009-000.

Applicants: Gulf South Pipeline Company, LP.

Description: § 4(d) Rate Filing: Housekeeping Filing eff 8-31-2018 to be effective 8/31/2018.

Filed Date: 7/31/18.

Accession Number: 20180731-5015.

Comments Due: 5 p.m. ET 8/13/18.

Docket Numbers: RP18-1010-000.

Applicants: Gulf South Pipeline Company, LP.

Description: § 4(d) Rate Filing: Modification to Negotiated Rate Provision to be effective 8/31/2018.

Filed Date: 7/31/18.

Accession Number: 20180731-5016.

Comments Due: 5 p.m. ET 8/13/18.

Docket Numbers: RP18-1011-000.

Applicants: Gulf South Pipeline Company, LP.

Description: § 4(d) Rate Filing: Coastal Bend Pooling Service Clarification to be effective 8/31/2018.

Filed Date: 7/31/18.

Accession Number: 20180731-5017.

Comments Due: 5 p.m. ET 8/13/18.

Docket Numbers: RP18-1012-000.

Applicants: Gulf Crossing Pipeline Company LLC.

Description: § 4(d) Rate Filing: Cap Rel Neg Rate Agmt (Newfield 18 to Spire 2020) to be effective 8/1/2018.

Filed Date: 7/31/18.

Accession Number: 20180731-5019.

Comments Due: 5 p.m. ET 8/13/18.

Docket Numbers: RP18-1013-000.

Applicants: Gulf Crossing Pipeline Company LLC.

Description: § 4(d) Rate Filing: Revise Certain Pro Forma Agreements to be effective 8/31/2018.

Filed Date: 7/31/18.

Accession Number: 20180731-5024.

Comments Due: 5 p.m. ET 8/13/18.

Docket Numbers: RP18-1014-000.

Applicants: Gulf Crossing Pipeline Company LLC.

Description: § 4(d) Rate Filing: Housekeeping Filing eff 8-31-2018 to be effective 8/31/2018.

Filed Date: 7/31/18.

Accession Number: 20180731-5028.

Comments Due: 5 p.m. ET 8/13/18.

Docket Numbers: RP18-1015-000.

Applicants: Gulf Crossing Pipeline Company LLC.

Description: § 4(d) Rate Filing: Modification to Negotiated Rate Provision to be effective 8/31/2018.

Filed Date: 7/31/18.

Accession Number: 20180731-5032.

Comments Due: 5 p.m. ET 8/13/18.

Docket Numbers: RP18-1016-000.

Applicants: Texas Gas Transmission, LLC.

Description: § 4(d) Rate Filing: Separate Fuel Negotiated Rate Agreement to be effective 8/31/2018.

Filed Date: 7/31/18.

Accession Number: 20180731-5035.

Comments Due: 5 p.m. ET 8/13/18.

Docket Numbers: RP18-1017-000.

Applicants: Southern Star Central Gas Pipeline, Inc.

Description: § 4(d) Rate Filing: Vol 2—Neg. and Non-Conforming Agreement—Scout Energy Group III to be effective 8/1/2018.

Filed Date: 7/31/18.

Accession Number: 20180731-5067.

Comments Due: 5 p.m. ET 8/13/18.

Docket Numbers: RP18-1019-000.

Applicants: Transcontinental Gas Pipe Line Company, LLC.

Description: § 4(d) Rate Filing: Negotiated Rates—Cherokee AGL—Replacement Shippers—Aug 2018 to be effective 8/1/2018.

Filed Date: 7/31/18.

Accession Number: 20180731-5076.

Comments Due: 5 p.m. ET 8/13/18.

Docket Numbers: RP18-1020-000.

Applicants: Wyoming Interstate Company, L.L.C.

Description: § 4(d) Rate Filing: FL&U Update Quarterly to be effective 9/1/2018.

Filed Date: 7/31/18.

Accession Number: 20180731-5078.

Comments Due: 5 p.m. ET 8/13/18.

Docket Numbers: RP18-1021-000.

Applicants: Algonquin Gas Transmission, LLC.

Description: § 4(d) Rate Filing: Negotiated Rates ConEd releases eff 8-1-2018 to be effective 8/1/2018.

Filed Date: 7/31/18.

Accession Number: 20180731-5079.

Comments Due: 5 p.m. ET 8/13/18.

Docket Numbers: RP18-1022-000.

Applicants: Northern Natural Gas Company.

Description: § 4(d) Rate Filing: 20180731 Negotiated Rate to be effective 8/1/2018.

Filed Date: 7/31/18.

Accession Number: 20180731-5094.

Comments Due: 5 p.m. ET 8/13/18.

Docket Numbers: RP18-1023-000.

Applicants: El Paso Natural Gas Company, L.L.C.

Description: § 4(d) Rate Filing: Negotiated Agreement Update (APS August 2018) to be effective 8/1/2018.

Filed Date: 7/31/18.

Accession Number: 20180731-5103.

Comments Due: 5 p.m. ET 8/13/18.

Docket Numbers: RP18-1024-000.

Applicants: Transcontinental Gas Pipe Line Company, LLC.

Description: § 4(d) Rate Filing: Negotiated Rates—Woodbridge/CPV—REV to be effective 8/1/2018.

Filed Date: 7/31/18.

Accession Number: 20180731-5104.

Comments Due: 5 p.m. ET 8/13/18.

Docket Numbers: RP18-1025-000.

Applicants: Texas Eastern Transmission, LP.

Description: § 4(d) Rate Filing: Negotiated Rate—Plymouth Rock eff 8-1-2018 to be effective 8/1/2018.

Filed Date: 7/31/18.

Accession Number: 20180731-5109.

Comments Due: 5 p.m. ET 8/13/18.

Docket Numbers: RP18-1026-000.

Applicants: Transcontinental Gas Pipe Line Company, LLC.

Description: § 4(d) Rate Filing: Non-Conforming—Leidy Southeast_PSNC Superseding to be effective 7/27/2018.

Filed Date: 7/31/18.

Accession Number: 20180731-5166.

Comments Due: 5 p.m. ET 8/13/18.

Docket Numbers: RP18-1027-000.

Applicants: Rockies Express Pipeline LLC.

Description: § 4(d) Rate Filing: Neg Rate 2018-7-31 10 Neg Rates E2W to be effective 8/1/2018.

Filed Date: 7/31/18.

Accession Number: 20180731-5186.

Comments Due: 5 p.m. ET 8/13/18.

Docket Numbers: RP18-1028-000.

Applicants: MarkWest Pioneer, L.L.C.

Description: § 4(d) Rate Filing: Nonconforming Negotiated Rate Service Agreements to be effective 8/1/2018.

Filed Date: 7/31/18.

Accession Number: 20180731-5189.

Comments Due: 5 p.m. ET 8/13/18.

Docket Numbers: RP18-1029-000.

Applicants: El Paso Natural Gas Company, L.L.C.

Description: § 4(d) Rate Filing: Non-Conforming Agreement Amendment (SWG 2018) to be effective 8/1/2018.

Filed Date: 7/31/18.

Accession Number: 20180731-5190.

Comments Due: 5 p.m. ET 8/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2018.
Nathaniel J. Davis, Sr.,
Deputy Secretary.

[FR Doc. 2018-16909 Filed 8-7-18; 8:45 am]

BILLING CODE 6717-01-P